DEPARTMENT OF COMMERCE

Bureau of Industry and Security

15 CFR Part 744

[Docket No. 180227219-8219-01]

RIN 0694-AH51

Addition of Certain Persons to the Entity List and Removal of Certain Persons From the Entity List; Correction of License Requirements

AGENCY: Bureau of Industry and Security, Commerce.

ACTION: Final rule.

SUMMARY: This final rule amends the Export Administration Regulations (EAR) by adding twenty-three persons to the Entity List. These twenty-three persons have been determined by the U.S. Government to be acting contrary to the national security or foreign policy interests of the United States and will be listed on the Entity List under the destinations of Pakistan, Singapore and South Sudan. This rule also removes one person under the destination of Ecuador and one person under the destination of the United Arab Emirates (U.A.E.) from the Entity List. Both removals are the result of requests for removal received by BIS pursuant to the section of the EAR used for requesting removal or modification of an Entity List entry and a review of information provided in the removal requests. Lastly, this rule corrects the license requirement for twelve entities that were added under the destination of Russia as part of a recent BIS rule.

DATES: This rule is effective March 22, 2018.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (15 CFR, Subchapter C, part 744, Supplement No. 4) identifies entities reasonably believed to be involved, or to pose a significant risk of being or becoming involved, in activities contrary to the national security or foreign policy interests of the United States. The Export Administration Regulations (EAR) (15 CFR, Subchapter C, parts 730-774) imposes additional license requirements on, and limits the availability of most license exceptions for, exports, reexports, and transfers (in-country) to those listed. The license review policy for each listed entity is identified in the License Review Policy column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote, and makes all decisions to remove or modify an entry by unanimous vote.

ERC Entity List Decisions

Additions to the Entity List

This rule implements the decision of the ERC to add twenty-three persons to the Entity List. These twenty-three persons are being added on the basis of § 744.11 (License requirements that apply to entities acting contrary to the national security or foreign policy interests of the United States) of the EAR. The twenty-three entries added to the Entity List consist of seven entities located in Pakistan, one entity in Singapore and fifteen entities in South Sudan.

The ERC reviewed § 744.11(b) (Criteria for revising the Entity List) in making the determination to add these twenty-three persons to the Entity List. Under that paragraph, persons for whom there is reasonable cause to believe, based on specific and articulable facts, that they have been involved, are involved, or pose a significant risk of being or becoming involved in, activities that are contrary to the national security or foreign policy interests of the United States, along with those acting on behalf of such persons, may be added to the Entity List. Paragraphs (b)(1) through (b)(5) of § 744.11 provide an illustrative list of activities that could be contrary to the national security or foreign policy interests of the United States.

The ERC determined that the fifteen entities being added to the Entity List under the destination of South Sudan—Ascom Sudd Operating Company; Dar Petroleum Operating Company; DietsmannNile; Greater Pioneer Operating Co. Ltd; Juba Petrotech Technical Services Ltd; Nile Delta Petroleum Company; Nile Drilling and Services Company; Nile Petroleum Corporation; Nyakek and Sons; Oranto Petroleum; Safinat Group; SIPET Engineering and Consultancy Services; South Sudan Ministry of Mining; South Sudan Ministry of Petroleum; and Sudd Petroleum Operating Co.—are government, parastatal and private entities in South Sudan that are involved in activities that are contrary to the foreign policy interests of the United States.

In addition, the ERC determined that Mushko Logistics Pte. Ltd. (located under the destination of Singapore) and Mushko Electronics Pvt. Ltd (located under the destination of Pakistan) be added to the Entity List on the grounds that these two entities procured items for several Pakistani entities on the Entity List. The ERC has also determined that Solutions Engineering (located under the destination of Pakistan) be added to the Entity List based on their involvement in activities contrary to U.S. national security and foreign policy interests. Specifically, the ERC determined that this entity has been involved in the procurement of U.S.-origin items on behalf of nuclear-related entities in Pakistan that are already listed on the Entity List.

For the remaining five entities being added to the Entity List under the destination of Pakistan, the ERC determined that three of the entities, Akhtar & Munir, Proficient Engineers and Pervaiz Commercial Trading Co. (PCTC), be added based on their involvement in the proliferation of unsafeguarded nuclear activities that are contrary to the national security and/or foreign policy interests of the United States. The ERC also determined that Marine Systems Pvt. Ltd. be added to the Entity List for assisting Pakistani entities on the Entity List in circumventing the restrictions of § 744.11 of the EAR by obtaining items subject to the EAR on behalf of those listed entities without the required licenses. Lastly, the ERC determined that Engineering and Commercial Services (ECS) be added to the Entity based on its involvement in supplying a Pakistani nuclear-related entity on the Entity List.

Pursuant to § 744.11(b) of the EAR, the ERC determined that the conduct of these twenty-three persons raises sufficient concern that prior review of exports, reexports or transfers (in-country) of all items subject to the EAR involving these persons, and the possible imposition of license conditions or license denials on shipments to the persons, will enhance BIS's ability to prevent violations of the EAR.

For the twenty-three persons added to the Entity List, BIS imposes a license requirement for all items subject to the EAR, and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule. The acronym “a.k.a.” (also known as) is used in entries on the Entity List to identify aliases, thereby assisting exporters, reexporters and transferors in identifying persons on the Entity List.

This final rule adds the following twenty-three persons to the Entity List:

Pakistan

(1) Akhtar & Munir, Hussain Plaza 60-B No. 3, Adamjee Road, Punjab 46000, Pakistan;

(2) Engineering and Commercial Services (ECS), 204, 2nd Floor, Capital Business Center, F-10 Markaz, Islamabad, Pakistan;

(3) Marine Systems Pvt. Ltd., 2nd Floor, Kashmir Plaza, Blue Area, G-6/F-6 Islamabad, Pakistan;

(4) Mushko Electronics Pvt. Ltd., Safa House Address, Abdullah Haroon Road, Karachi Pakistan; and Victoria Chambers, Abdullah Haroon Road, Saddar Town, Karachi Pakistan; and Office No. 3&8, First Floor, Center Point Plaza, Main Boulevad, Gullberg-III, Lahore, Pakistan; and 26-D Kashmir Plaza East, Jinnah Avenue, Blue Area, Islamabad, Pakistan; and 68-W, Sama Plaza, Blue Area Sector G-7, Islamabad, Pakistan;

(5) Pervaiz Commercial Trading Co. (PCTC), PCTC House, 36-B Model Town, Lahore, Pakistan;

(6) Proficient Engineers, Tariq Block, 437 New Garen Town, Lahore, Pakistan; and

(7) Solutions Engineering Pvt. Ltd., a.k.a., the following two aliases:

—Solutronix Engineering Pvt. Ltd. and

—Solutronix Pvt. Ltd.

95A Solutions Tower, DHA Phase 8 Commercial Broadway, Lahore, Pakistan; and 54-B PAF Colony, Zarar Shaheed, Lahore, Pakistan; and Ground Floor, Almas Tower, Begum Salma Tassadaq Road, Near E Plomer, Lahore, Pakistan; and Suite 1&4, Hafeez Chamber 85 The Mall Lahore, Pakistan; and Gohawa Dak Dhana Bhatta Kohaar, Lahore, Pakistan; and Sehajpal Village, near New Airport Road, Lahore, Pakistan; and, Office #201, 2nd Floor, Capital Business Center, F-10 Markaz, Islamabad, Pakistan; and 156 The Mall, Rawalpindi, Pakistan.

Singapore

(1) Mushko Logistics Pte. Ltd., Unit 04-01, Lip Hing Industrial Building, 3 Pemimpin Drive, Singapore; and 37 Pemimpin Drive, #06-12 MAPEX, Singapore; and Unit 04-01/03, Pandan Logistics Hub, 49 Pandan Road, Singapore; and 54 Lakeside Drive, #01-22 Caspian, Singapore.

South Sudan

(1) Ascom Sudd Operating Company, a.k.a., the following one alias:

—ASOC.

South Sudan;

(2) Dar Petroleum Operating Company, a.k.a., the following one alias:

—DPOC.

Zhongnan Hotel, on UNMISS Road, South Sudan;

(3) DietsmannNile, Tomping District opposite Arkel Restaurant, two blocks north of Airport Road, Juba, South Sudan;

(4) Greater Pioneer Operating Co. Ltd, a.k.a., the following one alias:

—GPOC.

South Sudan;

(5) Juba Petrotech Technical Services Ltd, South Sudan;

(6) Nile Delta Petroleum Company, Hai Malakai neighborhood, Juba, South Sudan;

(7) Nile Drilling and Services Company, Hai Amarat, Airport Road, West Yat Building, Third Floor, Juba, South Sudan;

(8) Nile Petroleum Corporation, a.k.a., the following one alias:

—Nilepet.

Tomping District opposite Arkel Restaurant, two blocks north of Airport Road, Juba, South Sudan;

(9) Nyakek and Sons, Jubatown District near the Ivory Bank, Juba, South Sudan;

(10) Oranto Petroleum, Referendum Road, Juba, South Sudan;

(11) Safinat Group, South Sudan;

(12) SIPET Engineering and Consultancy Services, a.k.a., the following one alias:

—SPECS.

Tomping District opposite Arkel Restaurant, two blocks north of Airport Road, Juba, South Sudan;

(13) South Sudan Ministry of Mining, Nimra Talata, P.O. Box 376, Juba, South Sudan;

(14) South Sudan Ministry of Petroleum, Ministries Road, Opposite the Presidential Palace, P.O. Box 376, Juba, South Sudan; and

(15) Sudd Petroleum Operating Co., a.k.a., the following one alias:

—SPOC.

Tharjath, Unity State, South Sudan.

Removal From the Entity List

This rule implements a decision of the ERC to remove the following two entries from the Entity List on the basis of removal requests received by BIS, as follows: Corporacion Nacional de Telecommunicaciones (CNT), located in Ecuador, and Talaat Mehmood, located in the U.A.E. The entry for CNT was added to the Entity List on June 4, 2015 (see 80 FR 31836). The entry for Talaat Mehmood was added to the Entity List on May 26, 2017 (see 82 FR 24245). The ERC decided to remove these two entries based on information received by BIS pursuant to § 744.16 of the EAR and review conducted by the ERC.

This final rule implements the decision to remove the following one entity located in Ecuador and one entity located in the U.A.E. from the Entity List:

Ecuador

(1) Corporacion Nacional de Telecommunicaciones (CNT), Avenida Gaspar de Villaroel, Quito Ecuador; and Avda. Veintimilla, Suite 1149 y Amazonas, Edificio Estudio Z, Quito, Ecuador.

United Arab Emirates

(1) Talaat Mehmood, Q-4 136 Warehouse, Sharjah Airport International Free (SAIF) Zone, Sharjah, UAE; and Q1-08-051/B, Sharjah Airport International Free (SAIF) Zone, Sharjah, UAE; and P.O. Box 121826, Sharjah Airport International Free (SAIF) Zone, Sharjah, UAE.

Correction of License Requirements

On February 16, 2018, BIS published a final rule, Russian Sanctions: Addition of Certain Entities to the Entity List (83 FR 6949) (the February 16 rule), which added twenty-one entities to the Entity List under the destinations of Georgia, Poland, and Russia. Of the twenty-one entities added in the February 16 rule, twelve were added based on activities described in Executive Order 13662 (79 FR 16169), Blocking Property of Additional Persons Contributing to the Situation in Ukraine, issued on March 20, 2014. The preamble of the February 16 rule described the imposition of a license requirement for twelve Russian entities: Kaliningradnefteprodukt OOO; Kinef OOO; Kirishiavtoservis OOO; Lengiproneftekhim OOO; Media-Invest OOO; Novgorodnefteprodukt OOO; Pskovnefteprodukt OOO; SNGB AO; SO Tvernefteprodukt OOO; Sovkhoz Chervishevski PAO; Strakhovove Obshchestvo Surgutneftegaz OOO; and Surgutmebel OOO, for activities described in § 746.5 of the EAR. Specifically, the preamble stated that a license is required for exports, reexports, or transfers (in-country) of all items subject to the EAR, when the exporter, reexporter or transferor knows that the item will be used directly or indirectly in exploratinon for, or production of, oil or gas in Russian deepwater (greater than 500 feet) or Arctic offshore locations or shale formations in Russia, or is unable to determine whether the item will be used in such projects. However, the February 16 rule's amendments to the EAR adding these twelve entities incorrectly specified in the entry for each entity a license requirement that read as follows: “For all items subject to the EAR. (See § 744.11 of the EAR).” This final rule corrects the license requirement column in the entry for each of the twelve entities to clarify that the Entity List's license requirements apply to all items subject to the EAR when used in projects specified in § 746.5 of the EAR, as stated in the February 16 rule's preamble. The full name of each entity, along with any aliases, and accompanying addresses, is as follows:

(1) Kaliningradnefteprodukt OOO, a.k.a., the following three aliases:

—Kaliningradnefteprodukt LLC;

—Limited Liability Company Kaliningradnefteproduct; and

—LLC Kaliningradnefteproduct.

22-b Komsomolskaya Ulitsa, Central District, Kaliningrad, Russia;

(2) Kinef OOO, a.k.a., the following three aliases:

—Kinef, LLC;

—Limited Liability Company Production Association Kirishinefteorgsintez; and

—LLC Kinef.

d. 1 Shosse Entuziastov, Kirishi, Leningradskaya Oblast 187110, Russia;

(3) Kirishiavtoservis OOO, a.k.a., the following two aliases:

—Limited Liability Company Kirishiavtoservis; and

—LLC Kirishiavtoservis.

lit A, 12 Smolenskaya Ulitsa, St. Petersburg 196084;

(4) Lengiproneftekhim OOO, a.k.a., the following three aliases:

—Institut Po Proektirovaniyu Predpriyaty Neftepererabatyvayuschey I Neftekhimicheskoy Promyshlennosti, Limited Liability Company;

—Limited Liability Company Oil Refining and Petrochemical Facilities Design Institute; and

—LLC Lengiproneftekhim.

d. 94, Obvodnogo Kanala, nab, St. Petersburg 196084, Russia;

(5) Media-Invest OOO, a.k.a., the following two aliases:

—Limited Liability Company Media-Invest; and

—LLC Media-Invest.

17 Bld 1 Zubovsky Blvd., Moscow 119847, Russia;

(6) Novgorodnefteprodukt OOO, a.k.a., the following three aliases:

—Limited Liability Company Novgorodnefteproduct;

—LLC Novgorodnefteproduct; and

—Novgorodnefteprodukt LLC.

d. 20 Germana Ulitsa, Veliky Novgorod, Novgorodskaya Oblast 173002, Russia;

(7) Pskovnefteprodukt OOO, a.k.a., the following two aliases:

—Limited Liability Company Marketing Association Pskovnefteproduct; and

—LLC Pskovnefteproduct.

4 Oktyabrsky Prospekt, Pskov 180000, Russia;

(8) SNGB AO, a.k.a., the following three aliases:

—Closed Joint Stock Company Surgutneftegasbank (ZAO SNGB);

—Joint Stock Company Surgutneftegasbank; and

—JSC BANK SNGB.

19 Kukuyvitskogo Street, Surgut 628400, Russia;

(9) SO Tvernefteprodukt OOO, a.k.a., the following two aliases:

—Limited Liability Company Marketing Association Tvernefteproduct; and

—LLC MA Tvernefteproduct.

6 Novotorzhskaya Ulitsa, Tver, Russia;

(10) Sovkhoz Chervishevski PAO, a.k.a., the following three aliases:

—OJSC Sovkhoz Chervishevsky;

—Open Joint Stock Company Sovkhoz Chervishevsky; and

—Sovkhoz Chervishevsky, JSC.

d. 81 Sovetskaya Ulitsa, S. Chervichevsky, Tyumensky Rayon, Tyumensky Oblast 625519, Russia;

(11) Strakhovove Obshchestvo Surgutneftegaz OOO, a.k.a., the following three aliases:

—Insurance Company Surgutneftegas, LLC;

—Limited Liability Company Insurance Company Surgutneftegas; and

—LLC Insurance Company Surgutneftegas.

9/1 Lermontova Ulitsa, Surgut 628418, Russia;

(12) Surgutmebel OOO, a.k.a., the following four aliases:

—Limited Liability Company Syrgutmebel;

—LLC Surgutmebel;

—LLC Syrgutmebel; and

—Surgutmebel, LLC.

Vostochnaya Industrial 1 Territory 2, Poselok Barsovo, Surgutsky District, Yugra, Khanty-Mansiysky Autonomos Okrug, Russia.

Savings Clause

Shipments of items removed from eligibility for a License Exception or export or reexport without a license (NLR) as a result of this regulatory action that were en route aboard a carrier to a port of export or reexport, on March 22, 2018, pursuant to actual orders for export or reexport to a foreign destination, may proceed to that destination under the previous eligibility for a License Exception or export or reexport without a license (NLR).

Export Administration Act of 1979

Although the Export Administration Act of 1979 expired on August 20, 2001, the President, through Executive Order 13222 of August 17, 2001, 3 CFR, 2001 Comp., p. 783 (2002), as amended by Executive Order 13637 of March 8, 2013, 78 FR 16129 (March 13, 2013) and as extended by the Notice of August 15, 2017, 82 FR 39005 (Aug. 16, 2017), has continued the EAR in effect under the International Emergency Economic Powers Act (15 U.S.C. 1701 et seq.). BIS continues to carry out the provisions of the Export Administration Act of 1979, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the twenty-three persons added to the Entity List in this final rule, the provisions of the Administrative Procedure Act (5 U.S.C. 553) requiring notice of proposed rulemaking, the opportunity for public participation and a 30-day delay in effective date are inapplicable, because this regulation involves a military or foreign affairs function of the United States (5 U.S.C. 553(a)(1)). BIS implementation of this rule is necessary to protect U.S. national security or foreign policy interests by preventing items subject to the EAR from being exported, reexported, or transferred (in-country) to the persons being added to the Entity List. If this rule were delayed to allow for notice and comment and a delay in effective date, the persons being added to the Entity List by this action would continue to be able to receive items subject to the EAR without a license and to conduct activities contrary to the national security or foreign policy interests of the United States. In addition, publishing a proposed rule would give these persons notice of the U.S. Government's intention to place them on the Entity List, which could create an incentive for them to accelerate their receipt of items subject to the EAR to conduct activities that are contrary to the national security or foreign policy interests of the United States, including taking steps to set up additional aliases, change addresses, and engaging in other measures to try to limit the impact of the listing on the Entity List once a final rule is published.

5. For the two entities removed from the Entity List in this final rule, pursuant to the Administrative Procedure Act (APA), 5 U.S.C. 553(b)(3)(B), BIS finds good cause to waive requirements that this rule be subject to notice and the opportunity for public comment because it would be contrary to the public interest. In determining whether to grant a request for removal from the Entity List, a committee of U.S. Government agencies (the End-User Review Committee (ERC)) evaluates information about and commitments made by listed entities requesting removal from the Entity List, the nature and terms of which are set forth in 15 CFR part 744, supplement No. 5, as noted in 15 CFR 744.16(b). The information, commitments, and criteria for this extensive review were all established through the notice of proposed rulemaking and public comment process (72 FR 31005 (June 5, 2007) (proposed rule), and 73 FR 49311 (August 21, 2008) (final rule)). These two removals have been made within the established regulatory framework of the Entity List. If the rule were to be delayed to allow for public comment, U.S. exporters may face unnecessary economic losses as they turn away potential sales to the entities removed by this rule because the customer remained a listed person on the Entity List even after the ERC approved the removal pursuant to the rule published at 73 FR 49311 on August 21, 2008. By publishing without prior notice and comment, BIS allows the applicants whose removal has been approved by the ERC to receive U.S. exports immediately, subject to any other potential license requirements that may apply under provisions of the EAR other than the Entity List).

Removals from the Entity List involve interagency deliberation and result from review of public and non-public sources, including, where applicable, sensitive law enforcement information and classified information, and the measurement of such information against the Entity List removal criteria. This information is extensively reviewed according to the criteria for evaluating removal requests from the Entity List, as set out in 15 CFR part 744, supplement No. 5, and 15 CFR 744.16(b). For reasons of national security, BIS is not at liberty to provide to the public detailed information on which the ERC relied to make the decisions to remove these entities. In addition, the information included in the removal request is information exchanged between the applicant and the ERC, which by law (section 12(c) of the Export Administration Act of 1979), BIS is restricted from sharing with the public. Moreover, removal requests from the Entity List contain confidential business information, which is necessary for the extensive review conducted by the U.S. Government in assessing such requests.

Section 553(d) of the APA generally provides that rules may not take effect earlier than thirty (30) days after they are published in the Federal Register. BIS finds good cause to waive the30-day delay in effectiveness under 5 U.S.C. 553(d)(1) because this rule is a substantive rule which relieves a restriction. This rule's removal of two entities from the Entity List removes requirements (the Entity-List-based license requirement and limitation on use of license exceptions) on those two entities. The rule does not impose a requirement on any other person for these removals from the Entity List. Further, no other law requires that a notice of proposed rulemaking and an opportunity for public comment be given for this final rule.

6. The Department finds that there is good cause under 5 U.S.C. 553(b)(3)(B) to waive the provisions of the APA regarding notice of proposed rulemaking, the opportunity for public comment, and a 30-day delay in effective date for corrections made to twelve entries on the Entity List as part of this rule. This rule merely corrects an error resulting from a February 16, 2018 rule regarding the licensing requirement under the EAR that is applicable to items destined for or otherwise involving twelve entities that were added to the Entity List by the rule. The February 16, 2018 rule was a final rule with immediate effectiveness. It would be contrary to the public interest to delay publication of a correction and thereby exacerbate confusion on the part of the public as to the correct licensing requirement for shipments to or involving these twelve entities.

7. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 15, 2017, 82 FR 39005 (August 16, 2017); Notice of September 18, 2017, 82 FR 43825 (September 19, 2017); Notice of November 6, 2017, 82 FR 51971 (November 8, 2017); Notice of January 17, 2018, 83 FR 2731 (January 18, 2018).

2. Supplement No. 4 to part 744 is amended:

a. By removing the heading “Ecuador” and one Ecuadorian entity, “Corporacion Nacional de Telecommunicaciones (CNT), Avenida Gaspar de Villaroel, Quito Ecuador; and Avda. Veintimilla, Suite 1149 y Amazonas, Edificio Estudio Z, Quito, Ecuador.”;

b. By adding, under Pakistan, in alphabetical order, seven Pakistani entities;

c. By revising, under Russia, twelve Russian entities;

d. By adding, under Singapore, in alphabetical order, one Singaporean entity;

e. By adding, in alphabetical order, a heading for South Sudan and fifteen South Sudanese entities;

f. By removing, under United Arab Emirates, one Emirati entity, “Talaat Mehmood, Q-4 136 Warehouse, Sharjah Airport International Free (SAIF) Zone, Sharjah, UAE; and Q1-08-051/B, Sharjah Airport International Free (SAIF) Zone, Sharjah, UAE; and P.O. Box 121826, Sharjah Airport International Free (SAIF) Zone, Sharjah, UAE.”

The additions and revisions read as follows:

Supplement No. 4 to Part 744—Entity List

Country | Entity | License requirement | License review policy | Federal Register citation
* * * * * * *
PAKISTAN | * * * * * *
| Akhtar & Munir, Hussain Plaza 60-B No. 3, Adamjee Road, Punjab 46000, Pakistan; | For all items subject to the EAR. (See § 744.11 of the EAR). | Presumption of denial | 83 FR [INSERT FR PAGE NUMBER AND 3/22/18].
| * * * * * *
| Engineering and Commercial Services (ECS), 204, 2nd Floor, Capital Business Center, F-10 Markaz, Islamabad, Pakistan. | For all items subject to the EAR. (See § 744.11 of the EAR). | Presumption of denial | 83 FR [INSERT FR PAGE NUMBER AND 3/22/18].
| * * * * * *
| Marine Systems Pvt. Ltd., 2nd Floor, Kashmir Plaza, Blue Area, G-6/F-6 Islamabad, Pakistan. | For all items subject to the EAR. (See § 744.11 of the EAR). | Presumption of denial | 83 FR [INSERT FR PAGE NUMBER AND 3/22/18].
| * * * * * *
| Mushko Electronics Pvt. Ltd., Safa House Address, Abdullah Haroon Road, Karachi Pakistan; and Victoria Chambers, Abdullah Haroon Road, Saddar Town, Karachi Pakistan; and Office No. 3&8, First Floor, Center Point Plaza, Main Boulevad, Gullberg-III, Lahore, Pakistan; 26-D Kashmir Plaza East, Jinnah Avenue, Blue Area, Islamabad, Pakistan; and 68-W, Sama Plaza, Blue Area Sector G-7, Islamabad, Pakistan. | For all items subject to the EAR. (See § 744.11 of the EAR). | Presumption of denial | 83 FR [INSERT FR PAGE NUMBER AND 3/22/18].
| * * * * * *
| Pervaiz Commercial Trading Co. (PCTC), PCTC House, 36-B Model Town, Lahore, Pakistan. | For all items subject to the EAR. (See § 744.11 of the EAR). | Presumption of denial | 83 FR [INSERT FR PAGE NUMBER AND 3/22/18].
| * * * * * *
| Proficient Engineers, Tariq Block, 437 New Garen Town, Lahore, Pakistan. | For all items subject to the EAR. (See § 744.11 of the EAR). | Presumption of denial | 83 FR [INSERT FR PAGE NUMBER AND 3/22/18].
| * * * * * *
| Solutions Engineering Pvt. Ltd., a.k.a., the following two aliases: —Solutronix Engineering Pvt. Ltd. and —Solutronix Pvt. Ltd. | For all items subject to the EAR. (See § 744.11 of the EAR). | Presumption of denial | 83 FR [INSERT FR PAGE NUMBER AND 3/22/18].
| 95A Solutions Tower, DHA Phase 8 Commercial Broadway, Lahore, Pakistan; and 54-B PAF Colony, Zarar Shaheed, Lahore, Pakistan; and Ground Floor, Almas Tower, Begum Salma Tassadaq Road, Near E Plomer, Lahore, Pakistan; and Suite 1&4, Hafeez Chamber 85 The Mall Lahore, Pakistan; and Gohawa Dak Dhana Bhatta Kohaar, Lahore, Pakistan; and Sehajpal Village, near New Airport Road, Lahore, Pakistan; and, Office #201, 2nd Floor, Capital Business Center, F-10 Markaz, Islamabad, Pakistan; and 156 The Mall, Rawalpindi, Pakistan.
* * * * * * *
RUSSIA | * * * * * *
| Kaliningradnefteprodukt OOO, a.k.a., the following three aliases: —Kaliningradnefteprodukt LLC; —Limited Liability Company Kaliningradnefteproduct; and | For all items subject to the EAR when used in projects specified in § 746.5 of the EAR. | Presumption of denial | 83 FR 6952, 2/16/18. 83 FR [INSERT FR PAGE NUMBER AND 3/22/18].
| —LLC Kaliningradnefteproduct.
| 22-b Komsomolskaya Ulitsa, Central District, Kaliningrad, Russia.
| * * * * * *
| Kinef OOO, a.k.a., the following three aliases: —Kinef, LLC; —Limited Liability Company Production Association Kirishinefteorgsintez; and —LLC Kinef. | For all items subject to the EAR when used in projects specified in § 746.5 of the EAR. | Presumption of denial | 83 FR 6952, 2/16/18. 83 FR [INSERT FR PAGE NUMBER AND 3/22/18].
| d. 1 Shosse Entuziastov, Kirishi, Leningradskaya Oblast 187110, Russia.
| * * * * * *
| Kirishiavtoservis OOO, a.k.a., the following two aliases: —Limited Liability Company Kirishiavtoservis; and —LLC Kirishiavtoservis. | For all items subject to the EAR when used in projects specified in § 746.5 of the EAR. | Presumption of denial | 83 FR 6952, 2/16/18. 83 FR [INSERT FR PAGE NUMBER AND 3/22/18].
| lit A, 12 Smolenskaya Ulitsa, St. Petersburg 196084.
| * * * * * *
| Lengiproneftekhim OOO, a.k.a., the following three aliases: —Institut Po Proektirovaniyu Predpriyaty Neftepererabatyvayuschey I Neftekhimicheskoy Promyshlennosti, Limited Liability Company; —Limited Liability Company Oil Refining and Petrochemical Facilities Design Institute; and | For all items subject to the EAR when used in projects specified in § 746.5 of the EAR. | Presumption of denial | 83 FR 6952, 2/16/18. 83 FR [INSERT FR PAGE NUMBER AND 3/22/18].
| —LLC Lengiproneftekhim.
| d. 94, Obvodnogo Kanala, nab, St. Petersburg 196084, Russia.
| * * * * * *
| Media-Invest OOO, a.k.a., the following two aliases: —Limited Liability Company Media-Invest; and —LLC Media-Invest. | For all items subject to the EAR when used in projects specified in § 746.5 of the EAR. | Presumption of denial | 83 FR 6952, 2/16/18. 83 FR [INSERT FR PAGE NUMBER AND 3/22/18].
| 17 Bld 1 Zubovsky Blvd, Moscow 119847, Russia.
| * * * * * *
| Novgorodnefteprodukt OOO, a.k.a., the following three aliases: —Limited Liability Company Novgorodnefteproduct; —LLC Novgorodnefteproduct; and —Novgorodnefteprodukt LLC. | For all items subject to the EAR when used in projects specified in § 746.5 of the EAR. | Presumption of denial | 83 FR 6952, 2/16/18. 83 FR [INSERT FR PAGE NUMBER AND 3/22/18].
| d. 20 Germana Ulitsa, Veliky Novgorod, Novgorodskaya Oblast 173002, Russia.
| * * * * * *
| Pskovnefteprodukt OOO, a.k.a., the following two aliases: —Limited Liability Company Marketing Association Pskovnefteproduct; and —LLC Pskovnefteproduct. | For all items subject to the EAR when used in projects specified in § 746.5 of the EAR. | Presumption of denial | 83 FR 6952, 2/16/18. 83 FR [INSERT FR PAGE NUMBER AND 3/22/18].
| 4 Oktyabrsky Prospekt, Pskov 180000, Russia.
| * * * * * *
| SNGB AO, a.k.a., the following three aliases: —Closed Joint Stock Company Surgutneftegasbank (ZAO SNGB); —Joint Stock Company Surgutneftegasbank; and | For all items subject to the EAR when used in projects specified in § 746.5 of the EAR. | Presumption of denial | 83 FR 6952, 2/16/18. 83 FR [INSERT FR PAGE NUMBER AND 3/22/18].
| —JSC BANK SNGB.
| 19 Kukuyvitskogo Street, Surgut 628400, Russia.
| SO Tvernefteprodukt OOO, a.k.a., the following two aliases: —Limited Liability Company Marketing Association Tvernefteproduct; and | For all items subject to the EAR when used in projects specified in § 746.5 of the EAR. | Presumption of denial | 83 FR 6952, 2/16/18. 83 FR [INSERT FR PAGE NUMBER AND 3/22/18].
| —LLC MA Tvernefteproduct.
| 6 Novotorzhskaya Ulitsa, Tver, Russia.
| * * * * * *
| Sovkhoz Chervishevski PAO, a.k.a., the following three aliases: —OJSC Sovkhoz Chervishevsky; —Open Joint Stock Company Sovkhoz Chervishevsky; and | For all items subject to the EAR when used in projects specified in § 746.5 of the EAR. | Presumption of denial | 83 FR 6952, 2/16/18. 83 FR [INSERT FR PAGE NUMBER AND 3/22/18].
| —Sovkhoz Chervishevsky, JSC.
| d. 81 Sovetskaya Ulitsa, S. Chervichevsky, Tyumensky Rayon, Tyumensky Oblast 625519, Russia.
| * * * * * *
| Strakhovove Obshchestvo Surgutneftegaz OOO, a.k.a., the following three aliases: —Insurance Company Surgutneftegas, LLC; —Limited Liability Company Insurance Company Surgutneftegas; and | For all items subject to the EAR when used in projects specified in § 746.5 of the EAR. | Presumption of denial | 83 FR 6952, 2/16/18. 83 FR [INSERT FR PAGE NUMBER AND 3/22/18].
| —LLC Insurance Company Surgutneftegas.
| 9/1 Lermontova Ulitsa, Surgut 628418, Russia.
| * * * * * *
| Surgutmebel OOO, a.k.a., the following four aliases: —Limited Liability Company Syrgutmebel; —LLC Surgutmebel; | For all items subject to the EAR when used in projects specified in § 746.5 of the EAR. | Presumption of denial | 83 FR 6952, 2/16/18. 83 FR [INSERT FR PAGE NUMBER AND 3/22/18].
| —LLC Syrgutmebel; and
| —Surgutmebel, LLC.
| Vostochnaya Industrial 1 Territory 2, Poselok Barsovo, Surgutsky District, Yugra, Khanty-Mansiysky Autonomos Okrug, Russia.
SINGAPORE | * * * * * *
| Mushko Logistics Pte. Ltd., Unit 04-01, Lip Hing Industrial Building, 3 Pemimpin Drive, Singapore; and 37 Pemimpin Drive, #06-12 MAPEX, Singapore; and Unit 04-01/03, Pandan Logistics Hub, 49 Pandan Road, Singapore; and 54 Lakeside Drive, #01-22 Caspian, Singapore. | For all items subject to the EAR. (See § 744.11 of the EAR). | Presumption of denial | 83 FR [INSERT FR PAGE NUMBER AND 3/22/18].
* * * * * * *
SOUTH SUDAN | Ascom Sudd Operating Company, a.k.a., the following one alias: —ASOC. South Sudan. | For all items subject to the EAR. (See § 744.11 of the EAR.) | Presumption of denial | 83 FR [INSERT FR PAGE NUMBER AND 3/22/18].
| Dar Petroleum Operating Company, a.k.a., the following one alias: —DPOC. | For all items subject to the EAR. (See § 744.11 of the EAR.) | Presumption of denial | 83 FR [INSERT FR PAGE NUMBER AND 3/22/18].
| Zhongnan Hotel, on UNMISS Road, South Sudan.
| DietsmannNile, Tomping District opposite Arkel Restaurant, two blocks north of Airport Road, Juba, South Sudan. | For all items subject to the EAR. (See § 744.11 of the EAR.) | Presumption of denial | 83 FR [INSERT FR PAGE NUMBER AND 3/22/18].
| Greater Pioneer Operating Co. Ltd, a.k.a., the following one alias: —GPOC. | For all items subject to the EAR. (See § 744.11 of the EAR.) | Presumption of denial | 83 FR [INSERT FR PAGE NUMBER AND 3/22/18].
| South Sudan.
| Juba Petrotech Technical Services Ltd. South Sudan. | For all items subject to the EAR. (See § 744.11 of the EAR.) | Presumption of denial | 83 FR [INSERT FR PAGE NUMBER AND 3/22/18].
| Nile Delta Petroleum Company, Hai Malakai neighborhood, Juba, South Sudan. | For all items subject to the EAR. (See § 744.11 of the EAR.) | Presumption of denial | 83 FR [INSERT FR PAGE NUMBER AND 3/22/18].
| Nile Drilling and Services Company, Hai Amarat, Airport Road, West Yat Building, Third Floor, Juba, South Sudan. | For all items subject to the EAR. (See § 744.11 of the EAR.) | Presumption of denial | 83 FR [INSERT FR PAGE NUMBER AND 3/22/18].
| Nile Petroleum Corporation, a.k.a., the following one alias: —Nilepet. | For all items subject to the EAR. (See § 744.11 of the EAR.) | Presumption of denial | 83 FR [INSERT FR PAGE NUMBER AND 3/22/18].
| Tomping District opposite Arkel Restaurant, two blocks north of Airport Road, Juba, South Sudan.
| Nyakek and Sons, Jubatown District near the Ivory Bank, Juba, South Sudan. | For all items subject to the EAR. (See § 744.11 of the EAR.) | Presumption of denial | 83 FR [INSERT FR PAGE NUMBER AND 3/22/18].
| Oranto Petroleum, Referendum Road, Juba, South Sudan. | For all items subject to the EAR. (See § 744.11 of the EAR.) | Presumption of denial | 83 FR [INSERT FR PAGE NUMBER AND 3/22/18].
| Safinat Group. South Sudan. | For all items subject to the EAR. (See § 744.11 of the EAR.) | Presumption of denial | 83 FR [INSERT FR PAGE NUMBER AND 3/22/18].
| SIPET Engineering and Consultancy Services, a.k.a., the following one alias: —SPECS. | For all items subject to the EAR. (See § 744.11 of the EAR.) | Presumption of denial | 83 FR [INSERT FR PAGE NUMBER AND 3/22/18].
| Tomping District opposite Arkel Restaurant, two blocks north of Airport Road, Juba, South Sudan.
| South Sudan Ministry of Mining, Nimra Talata, P.O. Box 376, Juba, South Sudan. | For all items subject to the EAR. (See § 744.11 of the EAR.) | Presumption of denial | 83 FR [INSERT FR PAGE NUMBER AND 3/22/18].
| South Sudan Ministry of Petroleum, Ministries Road, Opposite the Presidential Palace, P.O. Box 376, Juba, South Sudan. | For all items subject to the EAR. (See § 744.11 of the EAR.) | Presumption of denial | 83 FR [INSERT FR PAGE NUMBER AND 3/22/18].
| Sudd Petroleum Operating Co., a.k.a., the following one alias: —SPOC. | For all items subject to the EAR. (See § 744.11 of the EAR.) | Presumption of denial | 83 FR [INSERT FR PAGE NUMBER AND 3/22/18].
| Tharjath, Unity State, South Sudan.
* * * * * * *

Dated: March 16, 2018.
Richard E. Ashooh,
Assistant Secretary for Export Administration.

[FR Doc. 2018-05789 Filed 3-21-18; 8:45 am]

BILLING CODE 3510-33-P